ENVIRONMENTAL PROTECTION AGENCY

[ER-FRL-6627-4]

Environmental Impact Statements; Notice of Availability

Responsible Agency: Office of Federal Activities, General Information, (202) 564-7167 or www.epa.gov/oeca/ofa.

Weekly receipt of Environmental Impact Statements

Filed March 4, 2002 Through March 8, 2002,

Pursuant to 40 CFR 1506.9.

EIS No. 020087, Draft EIS, FHW, CT, Groton-New London Airport, Construction of Runway 5-23 Safety Area, Permits and Approvals, Town of Groton, New London County, CT, Comment Period Ends: May 10, 2002, Contact: John Silva (781) 238-7502.

EIS No. 020088, Draft EIS, AFS, PA, Lewis Run Project, Management Strategies for Road Construction and Reconstruction, Timber Management Activities, Soil and Water Improvements, Wildlife Habitat Enhancements and Recreation Improvements, Implementation, Lewis Run Project Area, Bradford Ranger District, Allegheny National Forest, McKean County, PA, Comment Period Ends: April 29, 2002, Contact: Andrea Hille, Ext. 129 (814) 362-4613.

EIS No. 020089, Draft EIS, FHW, WV, KY, Appalachian Corridor I-66 Highway Construction, U.S. 23/119 south of Pikeville, KY eastward to the King Coal Highway southeast of Matewan, Funding and U.S. Army COE Section 404 Permits Issuance, Pike County, KY and Mingo County, WV, Comment Period Ends: April 29, 2002, Contact: Jose Sepuveda (502) 223-6764.

EIS No. 020090, Draft EIS, AFS, Mt, Bitterroot National Forest Noxious Weed Treatment Project, Ground and Aerial Herbicides Application, Mechanical, Biological and Cultural Weed Treatment and Public Awareness Measures, Implementation, Stevensville Ranger District, Bitterroot National Forest, Ravalli County, MT, Comment Period Ends: April 30, 2002, Contact: Ken Hotchkiss (406) 777-5461.

EIS No. 020091, Final EIS, COE, CA, Pine Flat Dam Fish and Wildlife Habitat Restoration Investigation, Restoration and Protection of the Ecosystem for Fish and Wildlife Resources, King River Basin, Fresno County, CA, Wait Period Ends: April 15, 2002, Contact: John Bellinger (202) 761-4831.

EIS No. 020092, Draft Supplement, FAA, FL, Fort Lauderdale-Hollywood International Airport, New Information and Changes to the Aviation Activity Forecasts Presented, Proposed Expansion of Runway 9R-2FL and other Associated Improvements, Funding, Broward County, FL, Comment Period Ends: April 29, 2002, Contact: Virginia Lee (407) 812-6331 ext 29.

EIS No. 020093, Draft EIS, FHW, NV, Boulder City/U.S. 93 Corridor Study, Study Limits are between a western boundary on U.S. 95 in the City of Henderson, where the Present Freeway ends, and an Eastern boundary on U.S. 93 approximately 4.7 miles east of downtown Boulder City, NPDES, Right-of-Way and COE Section 404 Permits, Clark County, NV, Comment Period Ends: May 10, 2002, Contact: Daryle James (775) 888-7013.

EIS No. 020094, Final EIS, FHW, IL, U.S. 34/FAP 313 Transportation Facility Improvement Project, U.S. 34 from the Intersection of Carman Road east of Gulfport to Monmouth, Funding and U.S. Army COE Section 404 and NPDES Permits Issuance, Henderson and Warren Counties, IL, Wait Period Ends: May 13, 2002, Contact: Norman R. Stoner (217) 492-4600.

EIS No. 020095, Final EIS, AFS, NH, Loon Mountain Ski Resort Development and Expansion Project, Implementation, Special Use Permit and NPDES Permit Issuance, White Mountain National Forest, Pemgewasset Ranger District, Grafton County, NH, Wait Period Ends: April 15, 2002, Contact: Jay Strand, Ext. 522 (802) 767-4261.

EIS No. 020096, Final EIS, AFS, ID, Curfew National Grassland Land and Resource Management Plan, Implemetation, Caribou-Targhee National Forest, Oneida County, ID, Wait Period Ends: April 15, 2002, Contact: Jerry B. Reese (208) 557-5761.

EIS No. 020097, Final EIS, FHW, MI, MI-59 Proposed Right-of-Way Preservation Project, Funding for Right-of-Way Perservation Project, Funding for Right-of-Way Acquisition, I-96 to U.S. 23, Livingston County, MI, Wait Period Ends: April 29, 2002, Contact: James A. Kirschensteiner (517) 702-1835.

EIS No. 020098, Draft Supplement, COE, IL, WI, Upper Des Plaines River, Flood Damage Reduction at Site 37, Construction of a Concrete Floodwall along Des Plaines River, Milwaukee Avenue, Willow Road, and Palatine Road in Mt. Prospect, Cook County, IL, Comment Period Ends: April 29, 2002, Contact: Keith Ryder (312) 353-6400 ext. 2020.

EIS No. 020099, Final EIS, AFS, MT, WA, ID, Programmatic EIS—Kootena, Idaho Panhandle, and Lolo National Forests, Forest Plan Amendments for Access Management within the Selkirk and Cabinet-Yaak Grizzly Bear Recovery Zones, ID, WA and MT, Wait Period Ends: April 15, 2002, Contact: Rob Carlin (406) 882-4451.

Amended Notices

EIS No. 020074, Final EIS, FHW, AR, TX, US 71 Highway Improvement Project, between Texarkana, (US71) Arkansas and DeQueen, Funding, Right-of-Way Approval and COE Section 404 Permit, Little River, Miller and Sevier Counties, AR and Bowie County, TX, Wait Period Ends: April 15, 2002, Contact: Randal J. Looney (501) 324-6430.

Revision of FR Notice Published on 03/01/2002: CEQ Comment Period Ending 04/01/2002 has been extended to 04/15/2002. Also Correction to Contact Name and Telephone.

Dated: March 12, 2002.
Joseph C. Montgomery,
Director, NEPA Compliance Division, Office of Federal Activities.

[FR Doc. 02-6294 Filed 3-14-02; 8:45 am]

BILLING CODE 6560-50-M